DEPARTMENT OF HOUSING AND URBAN DEVELOPMENT

[Docket No. FR-6268-N-04]

Notice of Regulatory Waiver Requests Granted for the Fourth Quarter of Calendar Year 2021

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2021 and ending on December 31, 2021.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2021.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2021 through December 31, 2021. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2021) before the next report is published (the first quarter of calendar year 2022), HUD will include any additional waivers granted for the fourth quarter in the next report.

Accordingly, information about approved waiver requests pertaining to HUD regulations is provided in the Appendix that follows this notice.

Damon Y. Smith,
General Counsel.

Appendix

Listing of Waivers of Regulatory Requirements Granted by Offices of the Department of Housing and Urban Development, October 1, 2021 Through December 31, 2021

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 91.105(c)(2), and (k); 24 CFR 91.115(c)(2), and (i); and 24 CFR 91.401.

Project/Activity: Any participating jurisdiction or grantee located in the declared-disaster areas (designated in FEMA-4630-DR-KY) affected by the severe storms, straight-line winds, flooding, and tornados in FEMA-4630-DR-KY (the “disaster”).

Nature of Requirement: This provision allows a CPD grantee to amend an approved consolidated plan in accordance with 24 CFR 91.505. Substantial amendments to the consolidated plan, such as the addition of new activities or a change in the use of grant funds from one eligible activity to another, are subject to the citizen participation process in the grantee's citizen participation plan. The citizen participation plan must provide citizens with 30 days to comment on substantial amendments. In addition, the regulations require the grantee to follow its citizen participation plan to provide citizens with reasonable notice and opportunity to comment. The citizen participation plan must state how reasonable notice and opportunity to comment will be given.

Granted By: James Arthur Jemison II, Principal Deputy Assistant Secretary for Community Planning and Development

Date Granted: December 21, 2021.

Reason Waived: Several grantees in the declared-disaster areas are interested in amending their approved consolidated plans to include or revise activities in response to the disaster. Given the need to expedite actions to respond to damage caused by the disaster, HUD waived the 30-day public comment requirement of 24 CFR 91.105(c)(2), and (k), 91.115(c)(2), and (i) and 91.401 and reduced the public comment period to no less than seven days for grantees preparing amendments to prior year plans in response to the disaster. In reducing the comment period to seven days, HUD balanced the need to quickly assist families dealing with the aftereffects of the disaster while continuing to provide reasonable notice and opportunity for citizens to comment on the proposed uses of CDBG, HOME, HTF, HOPWA, and ESG funds.

In addition, HUD recognizes the destruction wrought by the disaster makes it difficult for impacted jurisdictions within the declared-disaster areas to provide notice to citizens in accordance with their citizen participation plans. Therefore, HUD waived 24 CFR 91.105(c)(2) and (k), 24 CFR 91.115(c)(2) and (i), and 24 CFR 91.401 to the extent necessary to allow these grantees to determine what constitutes reasonable notice and opportunity to comment given their circumstances and provide that level of notice and opportunity to comment when amending prior year plans in response to the disaster.

Applicability: This authority is in effect for grantees in the declared-disaster areas and is limited to facilitating preparation of substantial amendments to FY 2021 and prior year plans.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Projects located in the declared-disaster areas (designated in FEMA-4630-DR-KY) affected by the disaster.

Nature of Requirement: These sections of the HOME regulation require initial income determinations for HOME beneficiaries by examining source documents covering the most recent two months.

Granted By: James Arthur Jemison II, Principal Deputy Assistant Secretary for Community Planning and Development.

Date Granted: December 21, 2021.

Reason Waived: Many families displaced by the disaster (as documented by FEMA registration) may have had their income documentation destroyed or made inaccessible by the disaster and therefore, may not be able to qualify for HOME assistance if the requirement remains effective. This waiver permits the participating jurisdiction to use self-certification of income, as provided in § 92.203(a)(1)(ii), in lieu of source documentation to determine eligibility for HOME assistance of persons displaced by the disaster.

Applicability: This waiver applies only to families displaced by the disaster (as documented by FEMA registration) whose income documentation was destroyed or made inaccessible by the disaster and remains in effect for six months from December 21, 2021. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i)

Project/Activity: Projects located in the declared-disaster area (designated in FEMA-4630-DR-KY) affected by the disaster.

Nature of Requirement: The HOME regulation at 24 CFR 92.209(e) requires that the term of a HOME tenant-based rental assistance (TBRA) contract must begin on the first day of the lease. Section 92.209(h)(1) limits the maximum subsidy that a participating jurisdiction may pay toward a HOME TBRA recipient's rent to the difference between the participating jurisdiction's rent standard for the unit size and 30 percent of the family's monthly adjusted income. Section 92.209(i) requires that units occupied by TBRA recipients meet the housing quality standards established in 24 CFR 982.401.

Granted By: James Arthur Jemison II, Principal Deputy Assistant Secretary for Community Planning and Development

Date Granted: December 21, 2021.

Reason Waived: Waiving these provisions will provide participating jurisdictions with greater flexibility to use HOME TBRA as an emergency housing resource.

Applicability: The provision of 24 CFR 92.209(e) that the start date of a HOME TBRA contract begin on the first day of the term of a tenant's lease is waived for HOME TBRA contracts that a participating jurisdiction executes for persons or families displaced by the disaster for a period of 24 months after December 21, 2021. The provision of 24 CFR 92.209(h)(1) imposing the maximum HOME TBRA subsidy amount a participating jurisdiction may provide to a family under HOME TBRA is waived for TBRA recipients who are displaced by the disaster for a period of 24 months after December 21, 2021. The waiver of the housing quality standards requirements at 24 CFR 92.209(i) applies to units leased by HOME TBRA recipients who were displaced by the disaster and are being assisted through a HOME TBRA program funded by the participating jurisdiction for a period of 24 months after December 21, 2021.

Contact: Virginia Sardone, Director, Office of Affordable Housing Programs, U.S. Department of Housing and Urban Development, 451 Seventh Street SW, Room 7160, Washington, DC 20410, telephone (202) 708-2684.

• Regulation: 24 CFR 92.218 and 92.222(b).

Project/Activity: Any participating jurisdiction located in the declared-disaster area (designated in FEMA-4630-DR-KY) affected by the disaster.

Nature of Requirement: This provision requires all HOME participating jurisdictions to contribute throughout the fiscal year to housing that qualifies as affordable housing under the HOME program. The contributions must total no less than 25 percent of the HOME funds drawn from the participating jurisdiction's HOME Investment Trust Fund Treasury account. Reducing the match requirement for the participating jurisdiction by 100 percent for FY 2022 and FY 2023 will eliminate the need for the participating jurisdiction to identify match for HOME projects related to the damage caused by the disaster. The requirement that the participating jurisdiction must submit a copy of the Presidential major disaster-declaration is waived.

Granted By: James Arthur Jemison II, Principal Deputy Assistant Secretary for Community Planning and Development.

Date Granted: December 21, 2021.

Reason Waived: Given the urgent housing needs created by the disaster and the substantial financial impact the participating jurisdiction will face in addressing those needs, the approval of a match reduction will relieve the participating jurisdiction from the need to identify and provide matching contributions to HOME projects.

Applicability: This match reduction applies to funds expended by a participating jurisdiction located in the declared-disaster area from December 12, 2021, through September 30, 2023. The suspension also applies to State-funded HOME projects located in declared-disaster areas.

Contact: Virginia Sardone, Director, Office of Affordable Housing Programs, Department of Housing and Urban Development, Office of Community Planning and Development, 451 Seventh Street SW, Room 7160, Washington, DC 20410, telephone (202) 708-2684.

• Regulation: 24 CFR 92.251.

Project/Activity: Projects located in the declared-disaster area (designated in FEMA-4630-DR-KY) affected by the disaster.

Nature of Requirement: This provision requires that housing assisted with HOME funds meet property standards based on the activity undertaken, (e.g., homebuyer assistance), and state and local standards and codes or model codes for rehabilitation and new construction. Property standard requirements are waived only for repair of properties damaged by the disaster. Units must meet State and local health and safety codes. The lead housing safety regulations established in 24 CFR part 35 and the Section 504 accessibility requirements at 24 CFR part 8 are not waived.

Granted By: James Arthur Jemison II, Principal Deputy Assistant Secretary for Community Planning and Development.

Date Granted: December 21, 2021.

Reason Waived: This waiver is required to enable the participating jurisdiction to meet the critical housing needs of families whose housing was damaged and families who were displaced by the disaster.

Applicability: This waiver applies only to housing units located in the declared-disaster areas which were damaged by the disaster and to which HOME funds are committed within two years of December 21, 2021.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster area (see FEMA-4630-DR-KY) affected by the tornados and severe storms.

Nature of Requirement: This section of the HTF regulation requires initial income determinations for HTF beneficiaries by examining source documents covering the most recent two months.

Granted By: James Arthur Jemison II, Principal Deputy Assistant Secretary for Community Planning and Development.

Date Granted: December 21, 2021.

Reason Waived: Many families' income documentation may have been destroyed or made inaccessible by the disaster and therefore, these families will not be able to qualify for HTF assistance if the requirement remains effective. This waiver permits the grantee to use self-certification of income, as provided in section 93.151(d)(2), in lieu of source documentation to determine initial eligibility of persons displaced by the disaster for HTF assistance.

Applicability: This waiver applies only to families displaced by the disaster (as documented by FEMA registration) whose income documentation was destroyed or made inaccessible by the disaster and remains in effect for six months from December 21, 2021. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: The Cities of Oakland and Bakersfield, and the County of Marin, California requested a waiver of 24 CFR 92.252(d)(1) to allow use of the utility allowance established by the local public housing agency (PHA) for three HOME-assisted projects—Monarch Homes, Piper Courts, and Residences of East Hills.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: James Arthur Jemison II, Principal Deputy Assistant Secretary for Community Planning and Development.

Date Granted: October 13, 2021.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: The City of Los Angeles and the County of Alameda, California requested a waiver of 24 CFR 92.252(d)(1) to allow use of the utility allowance established by the local public housing agency (PHA) for two HOME-assisted projects—7th and Witmer Apartments; Meridian Apartments and T. Bailey Manor Apartments; and La Vereda Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: James Arthur Jemison II, Principal Deputy Assistant Secretary for Community Planning and Development.

Date Granted: December 21, 2021.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 93.400(d)(2).

Project/Activity: The State of California requested a waiver of 24 CFR 93.400(d)(2) to enable the State to retain HTF funds committed to one HOME-assisted project- PATH Villas Hollywood.

Nature of Requirement: The regulation at 24 CFR 93.400(d)(2) requires HUD to reduce or recapture any fiscal year grant funds in the State's HTF local account that are not expended within 5 years after the date of HUD's execution of the HTF grant agreement. Therefore, the State must expend its annual HTF allocation within 5 years after the date of HUD's execution of the HTF grant agreement.

Granted By: James Arthur Jemison II, Principal Deputy Assistant Secretary for Community Planning and Development.

Date Granted: December 21, 2021.

Reason Waived: The Department determined that there is sufficient good cause to grant a waiver of the requirement in 24 CFR 93.400(d)(2) to reduce or recapture the State's FY 2016 HTF funds committed to PATH Villas Hollywood due to project delays caused by litigation and the COVID-19 pandemic. Waiving 24 CFR 93.400(d)(2) will enable the State to retain HTF funds committed to PATH Villas Hollywood and prevent the potential loss of affordable units if the project loses necessary funds for completion.

Contact: Virginia Sardone, Director, Office of Affordable Housing Programs, Office of Community Planning and Development, Department of Housing and Urban Development, 451 Seventh Street SW, Room 7160, Washington, DC 20410, telephone (202) 708-2684.

• Regulation: 24 CFR 570.209(b)(3)(i)(A).

Project/Activity: The District of Columbia requested a waiver of the public benefit standard for special economic development activities. The project entails the use of Community Development Block Grant (CDBG) funds (which term includes funds received from a Section 108 guaranteed loan) to support infrastructure construction for a mixed-use economic development project. This activity is eligible at 24 CFR 570.703(i)(1) pursuant to 24 CFR 570.203(b) and will meet the criteria for national objectives under the CDBG program by creating or retaining permanent jobs where at least 51 percent of the jobs, computed on a full-time equivalent basis, involve the employment of LMI persons pursuant to 24 CFR 570.208(a)(4).

Nature of Requirement: This regulation provides that an activity assisted under 24 CFR 570.203 must produce at least a minimum level of public benefit from the expenditure of CDBG funds. An activity will be considered to demonstrate sufficient public benefit if it creates or retains at least one permanent, full time equivalent (FTE) job per $50,000 in CDBG assistance.

Granted By: James Arthur Jemison II, Principal Deputy Assistant Secretary for Community Planning and Development.

Date Granted: December 21, 2021.

Reason Waived: The scale of the proposed 1.59 million gross square foot mixed-use economic development project will have a substantial impact across much of the northeastern portion of the District through the creation of a new grocery option in an area that lacks fresh food, jobs, commercial industry, public infrastructure, and affordable housing. The project will introduce new neighborhood amenities to an area that has a higher percentage of low-income citizens than the District as a whole (approximately 52 percent compared to 31 percent for the District as a whole). The project includes rental housing units that will be designated as affordable for households making less than 50 percent of the area median income, helping increase the supply of desperately needed affordable housing in the District. This will enable more residents of the District to afford to live in the city where they work. The project will be transformative for the area, creating a new market and bringing financial and social opportunity to an underserved part of the District.

Contact: Paul Webster, Office of Community Planning and Development, Department of Housing and Urban Development, 451 Seventh Street SW, Room 7282, Washington, DC 20410, telephone (202) 402-4563.

• Regulation: 24 CFR 91.105(c)(2) and (k); 24 CFR 91.115 (c)(2), and (i); and 24 CFR 91.401.

Project/Activity: Any HUD Community Planning and Development (CPD) grantee located in the counties included in the declared-disaster area (see 4630-DR-KY) seeking to expedite action in response to the 2021 tornados and severe storms, upon notification to the Community Planning and Development Director in its respective HUD Field Office. This authority is in effect for grantees in the declared-disaster areas and is limited to facilitating preparation of substantial amendments to FY 2021 and prior year plans.

Nature of Requirement: The regulations at 24 CFR 91.105(c)(2) and (k); 24 CFR 91.115(c)(2) and (i); and 24 CFR 91.401 require a 30-day public comment period in the development of a consolidated plan and prior to the implementation of a substantial amendment.

Granted By: James Arthur Jemison, II, Principal Deputy Assistant Secretary for Community Planning and Development.

Date Granted: December 22, 2021.

Reason Waived: Several Kentucky CPD grantees were affected by tornados and severe storms weather that hit the state on December 10, 2021. As a result of substantial property loss and destruction, many individuals and families residing in the declared-disaster areas were displaced from their homes, including beneficiaries of various CPD programs, and families eligible to receive CPD program assistance. Some individuals and families continued to live in homes with habitability deficits, particularly related to potable water. A Presidentially declared disaster declaration was issued on December 12, 2021 (4630-DR-KY). The waiver granted will allow grantees to expedite recovery efforts for low- and moderate-income residents affected by the property loss and destruction resulting from this event.

Contact: James E. Höemann, Director, Entitlement Communities Division, Office of Community Planning and Development, Department of Housing and Urban Development, 451 Seventh Street SW, Room 7282, Washington, DC 20410, telephone (202) 402-5716.

• Regulation: 24 CFR 91.105(c)(2) and (k); 24 CFR 91.115(c)(2) and (i); and 24 CFR 91.401.

Project/Activity: Any HUD Community Planning and Development (CPD) grantee located in the counties included in the declared-disaster area (see 4630-DR-KY) seeking to expedite action in response to the 2021 tornados and severe storms, upon notification to the Community Planning and Development Director in its respective HUD Field Office. This authority is in effect for grantees within the declared-disaster areas and is limited to facilitating preparation of substantial amendments to FY 2021 and prior year plans

Nature of Requirement: The regulations at 24 CFR 91.105(c)(2) and (k); 24 CFR 91.115(c)(2) and (i); and 24 CFR 91.401 require the grantee to follow its citizen participation plan to provide citizens with reasonable notice and opportunity to comment. The citizen participation plan must state how reasonable notice and opportunity to comment will be given.

Granted By: James Arthur Jemison, II, Principal Deputy Assistant Secretary for Community Planning and Development.

Date Granted: December 22, 2021.

Reason Waived: As stated above, several Kentucky CPD grantees were affected by tornados and severe storms weather that hit the state on December 10, 2021. As a result of substantial property loss and destruction, many individuals and families residing in the declared-disaster areas were displaced from their homes, including beneficiaries of various CPD programs, and families eligible to receive CPD program assistance. Some individuals and families continued to live in homes with habitability deficits, particularly related to potable water. The waiver granted will allow grantees to determine what constitutes reasonable notice and opportunity to comment given their circumstances and provide that level of notice and opportunity to comment when amending prior year plans in response to the disaster.

Contact: James E. Höemann, Director, Entitlement Communities Division, Office of Community Planning and Development, Department of Housing and Urban Development, 451 Seventh Street SW, Room 7282, Washington, DC 20410, telephone (202) 402-5716.

• Regulation: Section 105(a) of the Housing and Community Development Act of1974, as amended (the HCDA) and 24 CFR 570.207(b)(3).

Project/Activity: Any Community Development Block Grant (CDBG) Entitlement or State CDBG Program grantee located in the declared-disaster areas (designated in 4630-DR-KY) seeking to expedite action in response to the disaster, upon notification to the Community Planning and Development Director in its respective HUD Field Office.

Nature of Requirement: The regulations at 24 CFR 570.207(b)(3) prohibit the use of CDBG funds for the construction of new, permanent residential structures. New housing construction is not generally an eligible activity under Section 105 of the HCDA. It may be undertaken indirectly through CDBG assistance provided to Community Based Development Organizations or other nonprofit entities specified in Section 105(a)(15) of the HCDA.

Granted By: James Arthur Jemison, II, Principal Deputy Assistant Secretary for Community Planning and Development.

Date Granted: December 21, 2021.

Reason Waived: HUD recognizes that the disaster caused damage and destruction to a large number of housing units within the declared-disaster areas. Allowing new housing construction will enable CDBG grantees to replace affordable housing units that were lost as a result of the disaster. To expedite the rebuilding process, HUD suspends Section 105(a) of HCDA and waives 24 CFR 570.207(b)(3) through the end of a grantee's 2023 program year to permit grantees to directly use CDBG funds for new housing construction activities to address damage from the tornados and severe storms. In addition to the flexibility provided by the suspension of the statute, grantees are encouraged to take advantage of the reconstruction provisions at Section 105(a)(4) of the HCDA.

Contact: James E. Höemann, Director, Entitlement Communities Division, Office of Community Planning and Development, Department of Housing and Urban Development, 451 Seventh Street SW, Room 7282, Washington, DC 20410, telephone (202) 402-5716.

• Regulation: 24 CFR 570.201(e)(1) or (2) and Section 105(a)(8) of the HCDA.

Project/Activity: Any CDBG Entitlement grantee or State CDBG Program unit of local government assisting persons and families who have registered with FEMA in connection with the disaster upon notification by the grantee to the Community Planning and Development Director in its respective HUD Field Office.

Nature of Requirement: Section 105(a)(8) sets forth the limitation of no more than 15 percent of each grant to be used for public services. The regulations at 24 CFR 570.201(e) limit the amount of CDBG funds used for public services to no more than 15 percent of the grantee's most recent CDBG grant plus 15 percent of program income received.

Granted By: James Arthur Jemison, II, Principal Deputy Assistant Secretary for Community Planning and Development.

Date Granted: December 21, 2021.

Reason Waived: Several CDBG grantees located within the declared-disaster areas were affected by the tornados and severe storms. The waiver granted will allow these grantees to expedite recovery efforts for low- and moderate-income residents affected by the disaster; pay for additional support services for affected individuals and families, including, but not limited to, food, health, employment, and case management services to help persons and families impacted by the property loss and destruction caused by the tornados and severe storms; and enable grantees to pay for the basic daily needs of individuals and families affected by the tornados and severe storms on an interim basis. This authority is in effect through the end of the grantee's 2022 program year.

Contact: James E. Höemann, Director, Entitlement Communities Division, Community Planning and Development, Department of Housing and Urban Development, 451 Seventh Street SW, Room 7282, Washington, DC 20410, telephone (202) 402-5716.

• Regulation: 24 CFR 570.207(b)(4) (Entitlements).

Project/Activity: All CDBG grantees located within and outside declared-disaster areas (designated in 4630-DR-KY) assisting persons and families who have registered with FEMA in connection with the disaster.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: James Arthur Jemison, II, Principal Deputy Assistant Secretary for Community Planning and Development.

Date Granted: December 21, 2021.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with the disaster. The waiver will allow CDBG grantees, including grantees providing assistance to evacuees outside the declared-disaster areas, to pay for the basic daily needs of individuals and families affected by the disaster on an interim basis. This authority is in effect through the end of the grantee's 2022 program year. This waiver aligns with waivers currently in effect for CDBG coronavirus (CDBG-CV) grants. The six-month periods allowed by waiver for CDBG and CDBG-CV shall not be used consecutively for the same beneficiary.

Contact: James E. Höemann, Director, Entitlement Communities Division, Office of Community Planning and Development, Department of Housing and Urban Development, 451 Seventh Street SW, Room 7282, Washington, DC 20410, telephone (202) 402-5716.

• Regulations: 24 CFR 574.310(b)(2), Housing Quality Standards (HQS).

Project/Activity: Property Standards for HOPWA.

Nature of Requirement: Section 574.310(b)(2) of the HOPWA regulations provides minimum housing quality standards that apply to all housing for which HOPWA funds are used for acquisition, rehabilitation, conversion, lease, or repair; new construction of single room occupancy dwellings and community residences; project or tenant-based rental assistance; or operating costs under 24 CFR 574.300(b)(3), (4), (5), or (8).

Granted By: James Arthur Jemison II, Principal Deputy Assistant Secretary for Community Planning and Development.

Date Granted: December 30, 2021.

Reason Waived: On March 31, 2020 HUD waived the physical inspection requirement for tenant-based rental assistance at 24 CFR 574.310(b) for one year so long as grantees or project sponsors were able to visually inspect the unit using technology to ensure the unit met HQS before any assistance was provided and grantees or project sponsors had written policies in place to physically reinspect the unit after health officials determined special measures to prevent the spread of COVID-19 were no longer necessary.

On May 22, 2020, HUD waived the physical inspection requirement for acquisition, rehabilitation, conversion, lease, or repair; new construction of single room occupancy dwellings and community residences; project or tenant-based rental assistance; or operating costs for one year so long as grantees or project sponsors met the criteria outlined in the waiver. On March 31, 2021, HUD again waived this requirement for all applicable housing types until June 30, 2021. On June 30, 2021, HUD extended the waiver until September 30, 2021.

Since the original waiver flexibility expired on September 30, 2021, grantees reported that it was still challenging to physically inspect units for HQS because of stay-at-home orders for many grantee workplaces, staffing shortages, and program clients feeling uncomfortable with other people entering their units out of fear of contracting COVID-19. As people experiencing homelessness are at higher risk of COVID-19 infection, and people living with HIV experience disproportionately poor health outcomes and higher hospitalization rates due to COVID-19, it continued to be important to move people living with HIV quickly into their own housing.

Applicability: This waiver was in effect until March 31, 2022 for grantees and project sponsors that met the following criteria:

1. The grantee or project sponsor can visually inspect the unit using technology, such as video streaming, to ensure the unit meets HQS before any assistance is provided; and

2. The grantee or project sponsor has written policies that require physical reinspection of the units not previously physically inspected by June 30, 2022.

Contact: Amy Palilonis, Office of HIV/AIDS Housing, Office of Community Planning and Development, Department of Housing and Urban Development, 451 Seventh Street SW, Room 7248, Washington, DC 20410, telephone (202) 402-5916. amy.l.palilonis@hud.gov.

• Regulations: 24 CFR 574.320(a)(2), Rent Standard.

Project/Activity: Rent Standard for HOPWA Rental Assistance.

Nature of Requirement: Grantees must establish rent standards for their rental assistance programs based on FMR (Fair Market Rent) or the HUD-approved community-wide exception rent for unit size.

Granted By: James Arthur Jemison II, Principal Deputy Assistant Secretary for Community Planning and Development.

Date Granted: December 21, 2021.

Reason Waived: This waiver enables HOPWA grantees in areas covered by a major disaster declaration under title IV of the Robert T. Stafford Disaster Relief and Emergency Assistance Act (Stafford Act), 4630-DR-KY, to expedite efforts to meet the critical housing needs of low-income people living with HIV and their families in the declared-disaster areas. Waiving the rent standard requirement, while still requiring that the unit be rent reasonable in accordance with § 574.320(a)(3), will make more units available to HOPWA eligible individuals and families in need of permanent housing in the declared-disaster areas.

Applicability: The rent standard requirement is waived for any rent amount that takes effect during the two-year period beginning on December 21, 2021 for any individual or family who is renting or executes a lease for a unit in the declared disaster areas. Grantees and project sponsors must still ensure the reasonableness of rent charged for units in the declared-disaster areas in accordance with § 574.320(a)(3). Individuals and families are not required to register for FEMA assistance in order for this waiver to be applicable.

Contact: Amy Palilonis, Office of HIV/AIDS Housing, Office of Community Planning and Development, Department of Housing and Urban Development, 451 Seventh Street SW, Room 7248, Washington, DC 20410, telephone (202) 402-5916. amy.l.palilonis@hud.gov.

• Regulations: 24 CFR 574.320(a)(2), Rent Standard.

Project/Activity: Rent Standard for HOPWA Rental Assistance.

Nature of Requirement: Grantees must establish rent standards for their rental assistance programs based on FMR (Fair Market Rent) or the HUD-approved community-wide exception rent for unit size.

Granted By: James Arthur Jemison II, Principal Deputy Assistant Secretary for Community Planning and Development.

Date Granted: December 30, 2021.

Reason Waived: HUD originally waived the FMR rent standard requirement for tenant-based rental assistance for one year on March 31, 2020. On May 22, 2020, HUD waived this requirement for one year for all rental assistance types. On March 31, 2021, HUD again waived this requirement for all rental assistance types until June 30, 2021. On June 30, 2021, HUD again waived this requirement until December 31, 2021. As people experiencing homelessness are at higher risk of COVID-19 infection, and people living with HIV experience disproportionately poor health outcomes and higher hospitalization rates due to COVID-19, it continued to be important ensure people living with HIV can obtain and maintain housing. Extending the waiver of the FMR rent standard limit, while still requiring that the unit be rent reasonable in accordance with § 574.320(a)(3), assisted grantees and project sponsors in ensuring low-income people living with HIV could obtain and maintain safe, stable housing in tight rental markets.

Applicability: The FMR requirement continued to be waived until March 31, 2022. Grantees and project sponsors must still ensure the reasonableness of rent charged for a unit in accordance with § 574.320(a)(3).

Contact: Amy Palilonis, Office of HIV/AIDS Housing, Office of Community Planning and Development, Department of Housing and Urban Development, 451 Seventh Street SW, Room 7248, Washington, DC 20410, telephone (202) 402-5916. amy.l.palilonis@hud.gov.

• Regulations: 24 CFR 574.310(b)(2)(iii), Space and Security.

Project/Activity: Adequate Space and Security.

Nature of Requirement: This section of the HOPWA regulations provides that each resident must be afforded adequate space and security for themselves and their belongings.

Granted By: James Arthur Jemison II, Principal Deputy Assistant Secretary for Community Planning and Development.

Date Granted: December 30, 2021.

Reason Waived: When HUD originally waived this requirement on March 31, 2020, an end date was not established. Grantees and project sponsors operating housing facilities and shared housing arrangements still report need for flexibility to use optional appropriate spaces for quarantine services of eligible households affected by COVID-19. Optional spaces may include the placement of families in a hotel/motel room where family members may be required to utilize the same space not allowing for adequate space and security for themselves and their belongings. Therefore, HUD continued to offer this waiver flexibility, but established an end date of March 31, 2022.

Applicability: This space and security requirement was waived until March 31, 2022, for grantees addressing appropriate quarantine space for affected eligible households during the allotted quarantined time frame recommended by local health care professionals.

Contact: Amy Palilonis, Office of HIV/AIDS Housing, Office of Community Planning and Development, Department of Housing and Urban Development, 451 Seventh Street SW, Room 7248, Washington, DC 20410, telephone (202) 402-5916. amy.l.palilonis@hud.gov.

• Regulations: 24 CFR 574.530, Recordkeeping.

Project/Activity: Source Documentation for Income and HIV Status Determinations.

Nature of Requirement: Each grantee must maintain records to document compliance with HOPWA requirements, which includes determining the eligibility of a family to receive HOPWA assistance.

Granted By: James Arthur Jemison II, Principal Deputy Assistant Secretary for Community Planning and Development.

Date Granted: December 21, 2021.

Reason Waived: This waiver permits HOPWA grantees and project sponsors, located within and outside of the areas covered by a major disaster declaration under title IV of the Robert T. Stafford Disaster Relief and Emergency Assistance Act (Stafford Act), 4630-DR-KY, to rely upon a family member's self-certification of income and credible information on their HIV status (such as knowledge of their HIV-related medical care) in lieu of source documentation to determine eligibility for HOPWA assistance for individuals and families displaced by the disaster. Many individuals and families displaced by the disaster whose homes have been destroyed or damaged will not have immediate access to documentation of income or medical records and, without this waiver, will be unable to document their eligibility for HOPWA assistance.

Applicability: This waiver is available to HOPWA grantees, located within and outside of the declared-disaster areas, to assist eligible persons and families who have been displaced by the disaster. Grantees must require written certification of HIV status and income of such individuals and families seeking assistance and obtain source documentation of HIV status and income eligibility within six months of December 21, 2021. Individuals and families are not required to register for FEMA assistance in order to receive the benefit of this waiver, unless they are being assisted outside of the declared-disaster areas.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 576.106(a), 576.105(a)(5), and 576.105(b)(2).

Project/Activity: HUD granted a waiver of 24 CFR 576.106(a), 576.105(a)(5), and 576.105(b)(2) in the December 21, 2021 memorandum: Availability of Waivers of Community Planning and Development Grant Program and Consolidated Plan Requirements to Facilitate Recovery from the Severe Storms, Straight-Line Winds, Flooding, and Tornadoes. HUD waived the applicable requirements to the extent necessary to authorize the use of ESG funds to be used to provide up to 36 consecutive months of rental assistance, utility payments, and housing stability case management, in addition to the 30 days of housing stability case management that may be provided before the move into permanent housing under 24 CFR 576.105(b)(2).

Nature of Requirement: The ESG regulation at 24 CFR 576.106(a) prohibits a program participant from receiving more than 24 months of ESG rental assistance during any three-year period. Section 576.105(a)(5) prohibits a program participant from receiving more than 24 months of utility payments under ESG during any three-year period. Section 576.105(b)(2) limits the provision of housing stability case management to 30 days while the program participant is seeking permanent housing and to 24 months during the period the program participant is living in permanent housing.

Granted By: James Arthur Jemison II, Principal Deputy Assistant Secretary for Community Planning and Development.

Date Granted: December 21, 2021.

Reason Waived: Waiving the 24-month caps on rental assistance, utility payments, and housing stability case management assistance will assist individuals and families, both those already receiving assistance and those who will receive assistance after December 21, 2021, to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

• Regulation: 24 CFR 576.106(d)(1).

Project/Activity: HUD granted a waiver of 24 CFR 576.106(d)(1) in the December 21, 2021 memorandum: Availability of Waivers of Community Planning and Development Grant Program and Consolidated Plan Requirements to Facilitate Recovery from the Severe Storms, Straight-Line Winds, Flooding, and Tornadoes. HUD waived the applicable requirement to the extent necessary to authorize the use of ESG funds to be used above the Fair Market Rent (FMR) amount, not to exceed rent reasonableness, for any rent amount that takes effect during the two-year period beginning on December 21, 2021 for any individual or family who is renting or executes a lease for a unit in a declared-disaster area.

Nature of Requirement: Under 24 CFR 576.106(d)(1), rental assistance cannot be provided unless the total rent is equal to or less than the FMR established by HUD, as provided under 24 CFR part 888, and complies with HUD's standard of rent reasonableness, as established under 24 CFR 982.507.

Granted By: James Arthur Jemison II, Principal Deputy Assistant Secretary for Community Planning and Development.

Date Granted: December 21, 2021.

Reason Waived: This waiver is required to enable ESG recipients to meet the critical housing needs of individuals and families whose housing was damaged or who were displaced as a result of the tornadoes and severe storms. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

• Regulation: 24 CFR 576.403(c).

Project/Activity: HUD granted a waiver of 24 CFR 576.403(c) in the December 21, 2021 memorandum: Availability of Waivers of Community Planning and Development Grant Program and Consolidated Plan Requirements to Facilitate Recovery from the Severe Storms, Straight-Line Winds, Flooding, and Tornadoes. HUD waived the applicable requirement for units in the declared disaster area that are or will be occupied by individuals or families eligible for ESG Rapid Re-housing or Homelessness Prevention assistance, provided that: (1) each unit meets applicable state and local standards; (2) each unit is free of life-threatening conditions as defined in Notice PIH 2017-20 (HA); and (3) recipients assure all units in which program participants are assisted meet the ESG housing standards within 60 days of the date of the December 21, 2021 memorandum.

Nature of Requirement: If ESG funds are used to help a program participant remain in or move into housing, the housing must meet the minimum habitability standards provided in 24 CFR 576.403(c).

Granted By: James Arthur Jemison II, Principal Deputy Assistant Secretary for Community Planning and Development.

Date Granted: December 21, 2021.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

• Regulation: 24 CFR 576.403(b).

Project/Activity: HUD granted a waiver of 24 CFR 576.403(b) in the December 21, 2021, memorandum: Availability of Waivers of Community Planning and Development Grant Program and Consolidated Plan Requirements to Facilitate Recovery from the Severe Storms, Straight-Line Winds, Flooding, and Tornadoes. HUD waived the applicable requirement for shelters in the declared disaster area that are or will be occupied by individuals or families eligible for ESG emergency shelter assistance, provided that: (1) each shelter meets applicable state and local standards; (2) each shelter is free of life-threatening conditions as defined in Notice PIH 2017-20 (HA); and (3) recipients ensure that these shelters meet the ESG shelter standards within 60 days of the date of the memorandum.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: James Arthur Jemison II, Principal Deputy Assistant Secretary for Community Planning and Development.

Date Granted: December 21, 2021.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

• Regulation: 24 CFR 576.203(b).

Project/Activity: HUD granted a waiver of 24 CFR 576.203(b) in the December 21, 2021 memorandum: Availability of Waivers of Community Planning and Development Grant Program and Consolidated Plan Requirements to Facilitate Recovery from the Severe Storms, Straight-Line Winds, Flooding, and Tornadoes. HUD waived the ESG expenditure deadline only for costs of providing homelessness prevention and rapid re-housing assistance to individuals and families under the flexibility provided by the waivers of 24 CFR 576.106(a), 576.105(a)(5), and 576.105(b)(2) and 24 CFR 576.106(d)(1), which were provided in the 12/21/2021 memorandum, and reasonable HMIS and administrative costs related to that assistance.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: James Arthur Jemison II, Principal Deputy Assistant Secretary for Community Planning and Development.

Date Granted: December 21, 2021.

Reason Waived: If not waived, the 24-month expenditure deadline would limit the effectiveness of waivers of the FMR requirement and the term limits on Rental Assistance and Housing Relocation and Stabilization Services also granted in the same memorandum. Providing a limited waiver of the expenditure deadline as described in the applicability paragraph below will support recipients' ability to assist individuals and families as provided by the related waivers.

Contact: Norm Suchar, Director, Office of Special Needs Assistance Programs, Office of Community Planning and Development, Department of Housing and Urban Development, 451 Seventh Street SW, Room 7262, Washington, DC 20410, telephone number (202) 708-4300.

• Regulation: 24 CFR 576.106(d)(1).

Project/Activity: HUD granted a waiver of 24 CFR 576.106(d)(1) in the December 30, 2021 memorandum: Availability of Additional Waivers for Community Planning and Development (CPD) Grant Programs to Prevent the Spread of COVID-19 and Mitigate Economic Impacts Caused by COVID-19. HUD waived the applicable requirement for any individual or family receiving Rapid Re-housing or Homelessness Prevention assistance who executes a lease for a unit during the period beginning on December 30, 2021 and ending on March 31, 2022. The ESG recipient or subrecipient must still ensure that the units in which ESG assistance is provided to these individuals and families meet the rent reasonableness standard.

Nature of Requirement: Under 24 CFR 576.106(d)(1), rental assistance cannot be provided unless the total rent is equal to or less than the FMR established by HUD, as provided under 24 CFR part 888, and complies with HUD's standard of rent reasonableness, as established under 24 CFR 982.507.

Granted By: James Arthur Jemison II, Principal Deputy Assistant Secretary for Community Planning and Development.

Date Granted: December 30, 2021.

Reason Waived: This waiver is required to enable ESG recipients to meet the critical housing needs of individuals and families whose housing was damaged or who were displaced as a result of the tornadoes and severe storms. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

• Regulation: 24 CFR 576.105(a)(5), (b)(2) and (c).

Project/Activity: HUD granted a waiver of 24 CFR 576.105(a)(5), (b)(2) and (c) in the December 30, 2021 memorandum: Availability of Additional Waivers for Community Planning and Development (CPD) Grant Programs to Prevent the Spread of COVID-19 and Mitigate Economic Impacts Caused by COVID-19. HUD waived the applicable requirement for program participants receiving rapid re-housing and homelessness prevention assistance who will have reached these 24-month limits between December 30, 2021 and March 31, 2022, as long as the assistance provided under this waiver does not extend beyond March 31, 2022, and is limited to program participants who will not be able to obtain or maintain housing without the benefit of this waiver.

Nature of Requirement: Section 576.105(a)(5) prohibits a program participant from receiving more than 24 months of utility payments under ESG during any three-year period. Section 576.105(b)(2) limits the provision of housing stability case management to 30 days while the program participant is seeking permanent housing and to 24 months during the period the program participant is living in permanent housing. Section 576.105(c) limits the total amount of time a program participant may receive services under section 576.105(b) to 24 months during any 3-year period.

Granted By: James Arthur Jemison II, Principal Deputy Assistant Secretary for Community Planning and Development.

Date Granted: December 30, 2021.

Reason Waived: This waiver is required for the following reasons: (1) Those residing in congregate settings, where many people who lose their housing reside after losing their housing, are at increased risk of COVID-19 infection; (2) Helping program participants maintain housing will therefore continue to decrease the risk of people experiencing and at risk of homelessness from contracting COVID-19; and (3) Although this waiver flexibility can already be used with respect to ESG-CV and FY2020 and earlier FY funds, making this waiver flexibility applicable to the newer FY2021 ESG grant funds will minimize the chances that service providers will run out of usable ESG funds to help their existing program participants remain stably housed during these critical winter months when people are spending most of their time indoors and the risk of spread is at its highest.

Contact: Norm Suchar, Director, Office of Special Needs Assistance Programs, Office of Community Planning and Development, Department of Housing and Urban Development, 451 Seventh Street SW, Room 7262, Washington, DC 20410, telephone number (202) 708-4300.

• Regulation: 24 CFR 576.106(a).

Project/Activity: HUD granted a waiver of 24 CFR 576.106(a) in the December 30, 2021 memorandum: Availability of Additional Waivers for Community Planning and Development (CPD) Grant Programs to Prevent the Spread of COVID-19 and Mitigate Economic Impacts Caused by COVID-19. HUD waived the applicable requirement for program participants receiving rapid re-housing and homelessness prevention rental assistance who will have reached these 24-month limits between December 30, 2021 and March 31, 2022, as long as the assistance provided under this waiver does not extend beyond March 31, 2022, and is limited to program participants who will not be able to obtain or maintain housing without the benefit of this waiver.

Nature of Requirement: Section 576.106(a) limits the total amount of time a program participant may receive rental assistance to 24 months in a three-year period.

Granted By: James Arthur Jemison II, Principal Deputy Assistant Secretary for Community Planning and Development.

Date Granted: December 30, 2021.

Reason Waived: This waiver is required for the following reasons: (1) Those residing in congregate settings, where many people who lose their housing reside after losing their housing, are at increased risk of COVID-19 infection; (2) Helping program participants maintain housing will therefore continue to decrease the risk of people experiencing and at risk of homelessness from contracting COVID-19; and (3) Although this waiver flexibility can already be used with respect to ESG-CV and FY2020 and earlier FY funds, making this waiver flexibility applicable to the newer FY2021 ESG grant funds will minimize the chances that service providers will run out of usable ESG funds to help their existing program participants remain stably housed during these critical winter months when people are spending most of their time indoors and the risk of spread is at its highest.

Contact: Norm Suchar, Director, Office of Special Needs Assistance Programs, Office of Community Planning and Development, Department of Housing and Urban Development, 451 Seventh Street SW, Room 7262, Washington, DC 20410, telephone number (202) 708-4300.

• Regulation: 24 CFR 576.105, 24 CFR 576.106.

Project/Activity: HUD granted a waiver of 24 CFR 576.105 and 24 CFR 576.106 in the December 30, 2021 memorandum: Availability of Additional Waivers for Community Planning and Development (CPD) Grant Programs to Prevent the Spread of COVID-19 and Mitigate Economic Impacts Caused by COVID-19. HUD waived 24 CFR 576.105 and 24 CFR 576.106 to the extent necessary to permit program participants to receive assistance in units they rent through a legally valid sublease from the primary leaseholder. This waiver is only made available with respect to leases and subleases entered into between December 30, 2021 and March 31, 2022. However, unless HUD notifies the recipient otherwise, the recipient may continue to use its FY2021 ESG grant funds to assist program participants housed under this waiver through the end of their otherwise allowable term of assistance.

Nature of Requirement: The use of “owner” and “lease” in 24 CFR 576.105 and 576.106 restrict program participants from receiving rental assistance under 24 CFR 576.106 and certain services under 24 CFR 576.105 with respect to units program participants sublease or lease from a person other than the owner or the owner's agent.

Granted By: James Arthur Jemison II, Principal Deputy Assistant Secretary for Community Planning and Development.

Date Granted: December 30, 2021.

Reason Waived: This waiver is required to improve recipients' and subrecipients' chances of helping more program participants move into housing quickly by quickly identifying housing in tight rental markets and helping people obtain or maintain housing during this critical time period, which is necessary to prevent the spread of COVID-19. In addition, because FY2021 ESG grant funding will remain available for longer than ESG-CV funding and FY2020 and earlier fiscal year ESG grants, extending this waiver to FY2021 ESG grants will maximize the time and opportunities to facilitate stable housing outcomes for program participants who are housed through this type of waiver and may need a longer period of ESG assistance than the expenditure deadlines for ESG-CV and FY2020 and earlier fiscal year grants would allow.

Contact: Norm Suchar, Director, Office of Special Needs Assistance Programs, Office of Community Planning and Development, Department of Housing and Urban Development, 451 Seventh Street SW, Room 7262, Washington, DC 20410, telephone number (202) 708-4300.

• Regulation: 24 CFR 576.2, definition of “homeless,” (1)(iii).

Project/Activity: HUD granted a waiver of 24 CFR 576.2, definition of “homeless,” (1)(iii) in the December 30, 2021 memorandum: Availability of Additional Waivers for Community Planning and Development (CPD) Grant Programs to Prevent the Spread of COVID-19 and Mitigate Economic Impacts Caused by COVID-19. HUD waived 24 CFR 576.2, definition of “homeless,” (1)(iii) to allow an individual to qualify as homeless under paragraph (1)(iii) of the homeless definition in 24 CFR 576.2 so long as he or she is exiting an institution where they resided for 120 days or less and resided in an emergency shelter or place not meant for human habitation immediately before entering that institution. This waiver is in effect for individuals whose homeless status is determined between December 30, 2021 and March 31, 2022.

Nature of Requirement: An individual who is exiting an institution where he or she resided for 90 days or less and who resided in an emergency shelter or place not meant for human habitation immediately before entering that institution is considered homeless per 24 CFR 576.2, definition of “homeless.”

Granted By: James Arthur Jemison II, Principal Deputy Assistant Secretary for Community Planning and Development.

Date Granted: December 30, 2021.

Reason Waived: This waiver is necessary to decrease the risk of COVID-19 infection by expanding housing options for people who were experiencing homelessness and institutionalized for longer than traditionally required due to COVID-19. Additionally, since people experiencing homelessness are showing an increased risk of COVID-19 infection, lower vaccination rates and poorer health outcomes when compared to the general population it is important that they be able to exit to permanent housing when they exit an institution to allow for social distancing and decrease the risk of COVID-19 infection.

Contact: Norm Suchar, Director, Office of Special Needs Assistance Programs, Office of Community Planning and Development, Department of Housing and Urban Development, 451 Seventh Street SW, Room 7262, Washington, DC 20410, telephone number (202) 708-4300.

Continuum of Care (CoC) Program

• Regulation: 24 CFR 578.37(a)(1)(ii), 24 CFR 578.37(a)(1)(ii)(C), and 24 CFR 578.51(a)(1)(i).

Project/Activity: HUD granted a waiver of 24 CFR 578.37(a)(1)(ii), 24 CFR 578.37(a)(1)(ii)(C), and 24 CFR 578.51(a)(1)(i) in the December 21, 2021 memorandum: Availability of Waivers of Community Planning and Development Grant Program and Consolidated Plan Requirements to Facilitate Recovery from the Severe Storms, Straight-Line Winds, Flooding, and Tornadoes. For two years from December 21, 2021, the 24-month limit on rental assistance is waived for individuals and families who meet the following criteria: (1) The individual or family lives in a declared-disaster area or was displaced from a declared-disaster area as a result of the disaster; and (2) the individual or family is currently receiving rental assistance or begins receiving rental assistance within two years after December 21, 2021.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: James Arthur Jemison II, Principal Deputy Assistant Secretary for Community Planning and Development.

Date Granted: December 21, 2021.

Reason Waived: Waiving the 24-month cap on rapid re-housing rental assistance will assist individuals and families affected by the disaster, including those already receiving rental assistance as well as those who will receive rental assistance within 2 years of December 21, 2021, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of permanent housing, 24 CFR 578.51(l)(1).

Project/Activity: HUD granted a waiver of 24 CFR 578.3, definition of permanent housing, 24 CFR 578.51(l)(1) in the December 21, 2021 memorandum: Availability of Waivers of Community Planning and Development Grant Program and Consolidated Plan Requirements to Facilitate Recovery from the Severe Storms, Straight-Line Winds, Flooding, and Tornadoes. The one-year lease requirement is waived for two years beginning on December 21, 2021 for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: James Arthur Jemison II, Principal Deputy Assistant Secretary for Community Planning and Development.

Date Granted: December 21, 2021.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

• Regulation: 24 CFR 578.53(e)(2).

Project/Activity: HUD granted a waiver of 24 CFR 578.53(e)(2) in the December 21, 2021 memorandum: Availability of Waivers of Community Planning and Development Grant Program and Consolidated Plan Requirements to Facilitate Recovery from the Severe Storms, Straight-Line Winds, Flooding, and Tornadoes. The one-time limit on moving costs of program participants is waived for two years beginning on December 21, 2021 for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: James Arthur Jemison II, Principal Deputy Assistant Secretary for Community Planning and Development.

Date Granted: December 21, 2021.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

• Regulation: 24 CFR 578.49(b)(2).

Project/Activity: HUD granted a waiver of 24 CFR 578.49(b)(2) in the December 21, 2021 memorandum: Availability of Waivers of Community Planning and Development Grant Program and Consolidated Plan Requirements to Facilitate Recovery from the Severe Storms, Straight-Line Winds, Flooding, and Tornadoes. The FMR restriction is waived for any lease executed by a recipient or subrecipient in declared-declared areas to provide transitional or permanent supportive housing during the 2-year period beginning on December 21, 2021. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: James Arthur Jemison II, Principal Deputy Assistant Secretary for Community Planning and Development.

Date Granted: December 21, 2021.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

• Regulation: 24 CFR 578.75(b)(1).

Project/Activity: HUD granted a waiver of 24 CFR 578.75(b)(1), in the December 30, 2021 memorandum: Availability of Additional Waivers for Community Planning and Development (CPD) Grant Programs to Prevent the Spread of COVID-19 and Mitigate Economic Impacts Caused by COVID-19. This waiver of the requirement in 24 CFR 578.75(b)(1) that the recipient or subrecipient physically inspect each unit to assure that the unit meets HQS before providing assistance on behalf of a program participant is in effect until March 31, 2022 for recipients and subrecipients that are able to meet the following criteria: (a) The recipient is able to visually inspect the unit using technology, such as video streaming, to ensure the unit meets HQS before any assistance is provided; and (b) The recipient or subrecipient has written policies that require physical inspection of the units not previously physically inspected by June 30, 2022.

Nature of Requirement: 24 CFR 278.75(b)(1) requires that recipients or subrecipients physically inspect each unit to assure that it meets HQS before any assistance will be provided for that unit on behalf of a program participant.

Granted By: James Arthur Jemison II, Principal Deputy Assistant Secretary for Community Planning and Development.

Date Granted: December 30, 2021.

Reason Waived: On March 31, 2020, HUD waived the physical inspection requirement at 24 CFR 578.75(b)(1) for 6-months so long as recipients or subrecipients were able to visually inspect the unit using technology to ensure the unit met HQS before any assistance was provided and recipients or subrecipients had written policies in place to physically reinspect the unit within 3 months after the health officials determined special measures to prevent the spread of COVID-19 are no longer necessary. On September 30, 2020, HUD waived the physical inspection requirement at 24 CFR 578.75(b)(1) until December 31, 2020, which HUD then extended until March 31, 2021, June 30, 2021, and September 30, 2021, so long as recipients and subrecipients could meet certain criteria outlined in the waiver. Since the original waiver flexibility expired on September 30, 2021, recipients report that it is challenging to physically inspect units for HQS because of staffing shortages and program participants being uncomfortable with other people entering their units out of fear of contracting COVID-19. Due to the increased risk of COVID-19 infection, low vaccination rates and poorer health outcomes of people experiencing homelessness if they contract COVID-19, it continues to be important to move people quickly into their own housing to enable social distancing and prevent the spread of COVID-19. Additionally, recipients need time to prepare staff to inspect (and reinspect as discussed below) units for HQS. Therefore, HUD is again waiving the initial inspection requirement at 24 CFR 578.75(b)(1) as further specified below to allow recipients to move people from the streets and shelters into housing more quickly.

Contact: Norm Suchar, Director, Office of Special Needs Assistance Programs, Office of Community Planning and Development, Department of Housing and Urban Development, 451 Seventh Street SW, Room 7262, Washington, DC 20410, telephone number (202) 708-4300.

• Regulation: 24 CFR 578.75(c) and 24 CFR 982.401(d)(2)(ii) as required by 24 CFR 578.75(b).

Project/Activity: HUD granted a waiver of 24 CFR 578.75(c) and 24 CFR 982.401(d)(2)(ii) as required by 24 CFR 578.75(b), in the December 30, 2021 memorandum: Availability of Additional Waivers for Community Planning and Development (CPD) Grant Programs to Prevent the Spread of COVID-19 and Mitigate Economic Impacts Caused by COVID-19. The requirement that each unit assisted with CoC Program funds or YHDP funds have at least one bedroom or living/sleeping room for each two persons is waived for recipients providing Permanent Housing-Rapid Re-housing assistance for leases and occupancy agreements executed by recipients and subrecipients between December 30, 2021 and March 31, 2022. Assisted units with leases of occupancy agreements signed during the waiver period may have more than two persons for each bedroom or living/sleeping room until the later of (1) the end of the initial term of the lease or occupancy agreement; or (2) March 31, 2022. As a reminder, recipients are still required to follow State and local occupancy laws.

Nature of Requirement: 24 CFR 578.75(c), suitable dwelling size, and 24 CFR 982.401(d)(2)(ii) as required by 24 CFR 578.75(b), Housing Quality Standards, requires units funded with CoC Program funds to have at least one bedroom or living/sleeping room for each two persons.

Granted By: James Arthur Jemison II, Principal Deputy Assistant Secretary for Community Planning and Development.

Date Granted: December 30, 2021.

Reason Waived: On September 30, 2020, HUD waived the requirements at 24 CFR 982.401(d)(2)(ii) and 24 CFR 578.75(c) to allow households experiencing homelessness to obtain permanent housing that is affordable and that they assess is adequate. HUD extended these flexibilities on December 30, 2020, to the later of (1) the end of the initial term of the lease or occupancy agreement; or (2) March 31, 2021. HUD again extended these flexibilities on March 31, 2021, to the later of (1) the end of the initial term of the lease or occupancy agreement; or (2) June 30, 2021. HUD again extended these flexibilities on July 1, 2021, to the later of (1) the end of the initial term of the lease or occupancy agreement; or (2) December 31, 2021. As of December 30, 2021, there continues to be a limited supply of affordable housing in many jurisdictions across the country and this has been made even more challenging due to the economic impact of COVID-19. Further, low vaccination rates and poorer health outcomes, compounded by the increased risk for COVID-19 infection, require that we expedite program participants' transition from homelessness to housing. Therefore, HUD is waiving the requirements at 24 CFR 982.401(d)(2)(ii) and 24 CFR 578.75(c) as further specified below to reduce the spread of COVID-19 by allowing households to move into housing instead of staying in congregate shelter. However, consistent with the Executive Order on Fighting the Spread of COVID-19 by Providing Assistance to Renters and Homeowners, grantees should balance use of this waiver with the recommendations of public health officials to limit community spread, and reduce risks to high-risk populations. For example, a large unit with rooms than can be partitioned for privacy and distancing, or the waiver can be applied for units that will house only one family household.

Contact: Norm Suchar, Director, Office of Special Needs Assistance Programs, Office of Community Planning and Development, Department of Housing and Urban Development, 451 Seventh Street SW, Room 7262, Washington, DC 20410, telephone number (202) 708-4300.

• Regulation: 24 CFR 578.49(b)(2).

Project/Activity: HUD granted a waiver of 24 CFR 578.49(b)(2), in the December 30, 2021 memorandum: Availability of Additional Waivers for Community Planning and Development (CPD) Grant Programs to Prevent the Spread of COVID-19 and Mitigate Economic Impacts Caused by COVID-19. The FMR restriction continues to be waived for any lease executed by a recipient or subrecipient to provide transitional or permanent supportive housing until March 31, 2022. The affected recipient or subrecipient must still ensure that rent paid for individual units that are leased with leasing dollars meet the rent reasonableness standard in 24 CFR 578.49(b)(2).

Nature of Requirement: The CoC Program regulation at 24 CFR 578.49(b)(2) prohibits a recipient from using grant funds for leasing to pay above FMR when leasing individual units, even if the rent is reasonable when compared to other similar, unassisted units.

Granted By: James Arthur Jemison II, Principal Deputy Assistant Secretary for Community Planning and Development.

Date Granted: December 30, 2021.

Reason Waived: HUD originally waived this requirement for 6-months on March 31, 2020. On September 30, 2020, HUD again waived this requirement until December 31, 2020. On December 30, 2020, HUD again waived this requirement until March 31, 2021. On March 31, 2021, HUD again waived this requirement until June 30, 2021. On July 1, 2021, HUD again waived this requirement until December 31, 2021. Extending this waiver of the limit on using grant leasing funds to pay above FMR for individual units, but not greater than reasonable rent, will assist recipients in locating additional units to house individuals and families experiencing homelessness in tight rental markets. This is necessary due to the increased risk of COVID-19 infection, the low vaccination rates and poorer health outcomes from COVID-19 experienced by individuals and families experiencing homelessness when compared to the general population. Permanent housing allows for social distancing and reduces the risk of COVID-19 infection.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of permanent housing, 24 CFR 578.51(l)(1).

Project/Activity: HUD granted a waiver of 24 CFR 578.3, definition of permanent housing, 24 CFR 578.51(l)(1)in the December 30, 2021 memorandum: Availability of Additional Waivers for Community Planning and Development (CPD) Grant Programs to Prevent the Spread of COVID-19 and Mitigate Economic Impacts Caused by COVID-19. The one-year lease requirement is waived for leases executed between December 30, 2021 and March 31, 2022, so long as the initial term of all leases is at least one month.

Nature of Requirement: The CoC Program regulation at 24 CFR 578.3, definition of permanent housing, and 24 CFR 578.51(l)(1) requires program participants residing in permanent housing to be the tenant on a lease for a term of one year that is renewable and terminable for cause.

Granted By: James Arthur Jemison II, Principal Deputy Assistant Secretary for Community Planning and Development.

Date Granted: December 30, 2021.

Reason Waived: HUD originally waived this requirement for 6-months on March 31, 2020, again until December 31, 2020 on September 30, 2020, again until March 31, 2021 on December 30, 2020, again on March 31, 2021 until June 30, 2021, and again on July 1, 2021 until December 31, 2021 to help recipients more quickly identify permanent housing for individuals and families experiencing homelessness, which is helpful in preventing the spread of COVID-19. Extending this waiver is necessary because recipients report challenges in identifying housing for program participants in tight rental markets due to the economic impact of COVID-19. Additionally, helping program participants move into housing quickly will continue to decrease the risk of people experiencing homelessness of contracting COVID-19 even after special measures are no longer necessary to prevent the spread of COVID-19 since people experiencing homelessness are at increased risk of COVID-19 infection, show lower rates of vaccination and poorer health outcomes from COVID-19 when compared to the general population.

Contact: Norm Suchar, Director, Office of Special Needs Assistance Programs, Office of Community Planning and Development, Department of Housing and Urban Development, 451 Seventh Street SW, Room 7262, Washington, DC 20410, telephone number (202) 708-4300.

• Regulation: 24 CFR 578.75(b)(2).

Project/Activity: HUD granted a waiver of 24 CFR 578.75(b)(2), in the December 30, 2021 memorandum: Availability of Additional Waivers for Community Planning and Development (CPD) Grant Programs to Prevent the Spread of COVID-19 and Mitigate Economic Impacts Caused by COVID-19. The requirement at 24 CFR 578.75(b)(2) was waived until March 31, 2022 for recipients and subrecipients that are able to visually re-inspect the unit using technology, such as video streamlining, to ensure the unit meets HQS.

Nature of Requirement: 24 CFR 578.75(b)(2) requires that recipients or subrecipients are required to inspect all units supported by leasing or rental assistance funding under the CoC and YHDP Programs at least annually during the grant period to ensure the units continue to meet HQS.

Granted By: James Arthur Jemison II, Principal Deputy Assistant Secretary for Community Planning and Development.

Date Granted: December 30, 2021.

Reason Waived: HUD originally waived the requirement for 1-year on March 31, 2020 to help recipients and subrecipients prevent the spread of COVID-19. On March 31, 2021, HUD extended the waiver until June 30, 2021. On July 1, 2021, HUD extended the waiver until September 30, 2021. Since the original waiver flexibility expired on September 30, 2021, recipients report that it is challenging to physically re-inspect units for HQS because of staffing shortages and program participants being uncomfortable having other people enter their units out of fear of contracting COVID-19. It continues to be important to maintain housing for people to enable social distancing and prevent the spread of COVID-19. Therefore, HUD is again waiving the requirement to inspect all units supported by leasing and rental assistance funds.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of “homeless” (1)(iii).

Project/Activity: HUD granted a waiver of 24 CFR 578.3, definition of “homeless” (1)(iii), in the December 30, 2021 memorandum: Availability of Additional Waivers for Community Planning and Development (CPD) Grant Programs to Prevent the Spread of COVID-19 and Mitigate Economic Impacts Caused by COVID-19. An individual may qualify as homeless under paragraph (1)(iii) of the homeless definition in 24 CFR 578.3 so long as he or she is exiting an institution where they resided for 120 days or less and resided in an emergency shelter or place not meant for human habitation immediately before entering that institution. This waiver is in effect until March 31, 2022.

Nature of Requirement: An individual who is exiting an institution where he or she resided for 90 days or less and who resided in an emergency shelter or place not meant for human habitation immediately before entering that institution is considered homeless per 24 CFR 578.3, definition of “homeless.”

Granted By: James Arthur Jemison II, Principal Deputy Assistant Secretary for Community Planning and Development.

Date Granted: December 30, 2021.

Reason Waived: HUD originally waived this requirement on September 30, 2020, until March 31, 2021 to keep housing options open for individuals who otherwise would have been homeless but were reporting longer stays in institutions as a result of COVID-19 (e.g., longer time in jail due to a 9 postponed court dates due to courts closings or courts operating at reduced capacity and longer hospital stays when infected with COVID-19). HUD again waived this requirement on March 31, 2021 until June 30, 2021 and again on July 1, 2021 until December 31, 2021. Allowing someone who was residing in an emergency shelter or place not meant for human habitation prior to entering the institution to maintain their homeless status while residing in an institution for longer than 90 days is necessary to prevent the spread of and respond to COVID-19 by expanding housing options for people who were experiencing homelessness and institutionalized for longer than traditionally required due to COVID-19. Recipients continue to report potential program participants are staying in institutions for longer periods of time due to COVID-19. Additionally, since people experiencing homelessness are at higher risk of COVID-19 infection, showing lower vaccination rates and poorer health outcomes when compared to the general population it is important that they be able to exit to permanent housing when they exit an institution to allow for social distancing and prevent the spread of COVID-19. Therefore, HUD is extending this waiver to allow someone who was residing in an emergency shelter or place not meant for human habitation prior to entering the institution to maintain their homeless status while residing in an institution for longer than 90 days.

Contact: Norm Suchar, Director, Office of Special Needs Assistance Programs, Office of Community Planning and Development, Department of Housing and Urban Development, 451 Seventh Street SW, Room 7262, Washington, DC 20410, telephone number (202) 708-4300.

• Regulation: 24 CFR 578.37(a)(1)(ii), 24 CFR 578.37(a)(1)(ii)(C), and 24 CFR 578.51(a)(1)(i).

Project/Activity: HUD granted a waiver of 24 CFR 578.37(a)(1)(ii), 24 CFR 578.37(a)(1)(ii)(C), and 24 CFR 578.51(a)(1)(i), in the December 30, 2021 memorandum: Availability of Additional Waivers for Community Planning and Development (CPD) Grant Programs to Prevent the Spread of COVID-19 and Mitigate Economic Impacts Caused by COVID-19. The 24-month rental assistance restriction is waived for program participants in permanent housing rapid re-housing project who will have reached 24 months of rental assistance until March 31, 2022. Program participants who have reached 24 months of rental assistance during this time and who will not be able to afford their rent without additional rental assistance will be eligible to receive rental assistance until March 31, 2022.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rental assistance in rapid re-housing projects to medium-term rental assistance, or no more than 24 months.

Granted By: James Arthur Jemison II, Principal Deputy Assistant Secretary for Community Planning and Development.

Date Granted: December 30, 2021.

Reason Waived: HUD originally waived this requirement on May 22, 2020 until 3 months after a state or local public health official has determined special measures are no longer necessary to prevent the spread of COVID-19. Recipients continue to report program participants are experiencing difficulty affording rent even after receiving 24 months of rental assistance. On July 1, 2021, HUD established an end date of this waiver of December 31, 2021. However, continuing to waive the limit on using rental assistance in rapid re-housing projects to pay more than 24 months will ensure that individuals and families currently receiving rapid re-housing assistance do not lose their assistance, and consequently their housing, during the COVID-19 public health crisis and the subsequent economic downturn. Because COVID-19 has been shown to rapidly spread in shelter settings, which is where many individuals and families will reside if they lose their housing, this will reduce the number of people who become homeless again due to the economic impact of COVID-19 and thus decrease the risk of COVID-19 infection.

Contact: Norm Suchar, Director, Office of Special Needs Assistance Programs, Office of Community Planning and Development, Department of Housing and Urban Development, 451 Seventh Street SW, Room 7262, Washington, DC 20410, telephone number (202) 708-4300.

• Regulation: 24 CFR 578.103(a) and 24 CFR 578.103(a)(4)(i)(B).

Project/Activity: HUD granted a waiver of 24 CFR 578.103(a) and 24 CFR 578.103(a)(4)(i)(B), in the December 30, 2021 memorandum: Availability of Additional Waivers for Community Planning and Development (CPD) Grant Programs to Prevent the Spread of COVID-19 and Mitigate Economic Impacts Caused by COVID-19. The requirement that staff-recorded observation of disability be confirmed and accompanied by other evidence no later than 45 days from the application for assistance documentation requirement is waived until March 31, 2022. A written certification by the individual seeking assistance that they have a qualifying disability will be acceptable documentation approved by HUD under 24 CFR 578.103(a)(4)(i)(B)(5) until March 31, 2021.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: James A. Jemison, Principal Deputy Assistant Secretary for Community Planning and Development.

Date Granted: December 30, 2021.

Reason Waived: On March 31, 2020, HUD waived the requirement to obtain additional evidence within 45 days and instead allowed recipients up to 6-months from the date of application for assistance to confirm intake staff-recorded observations of disability with other evidence because recipients were reporting difficulty obtaining third-party documentation of disability in the middle of a pandemic, impacting their ability to house potential program participants quickly. On September 30, 2020, HUD waived, in its entirety, the requirement to obtain additional evidence to verify intake staff-recorded observations of disability until public health officials determine no additional special measures are necessary to prevent the spread of COVID-19. On July 1, 2021, HUD extended this waiver until December 31, 2021. Many communities continue to experience substantial rates of COVID-19 and hospitalizations and resulting in staff shortages for non-COVID related concerns. As a result of this and of reduced hours of agencies and providers that can provide disability documentation, recipients are reporting that obtaining documentation of a disability still takes longer than usual. Because of the increased risk of COVID-19 infection and poorer health outcomes from COVID-19 experienced by people experiencing homelessness when compared to the general population it remains important to house people quickly to allow for social distancing and decrease the risk of COVID-19 infection. Therefore, HUD is continuing this waiver flexibility until March 31, 2022.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

Regulation: 24 CFR 200.73(c), Property Development.

Project/Activity: Boardwalk Apartments, Project No. 042-35579 and Glenville Apartments, Project No. 041-35520, Cleveland, Ohio.

Nature of Requirement: 24 CFR 200.73 (c). The regulation requires that not less than five rental dwelling units [of an FHA insured multifamily housing project] shall be on one site. Chapter 3 Section 3.1.30 of the MAP Guide permits a project with two or more non-contiguous parcels of land when the parcels comprise one marketable, manageable real estate entity. The regulation requires that a site contain not less than 5 rental dwelling units and reads as follows:

(c) The improvements shall constitute a single project. Not less than five rental dwelling units or personal care units, 20 medical care beds, or 50 manufactured home pads, shall be on one site, except that such limitations do not apply to group practice facilities.

The Boardwalk Glenville is a Section 221(d)(4) substantial renovation project of two separate FHA-insured loans, Boardwalk Apartments and Glenville Apartments. The two projects total 26 scattered sites, 173 apartment units plus a management office, are owned by Boardwalk Glenville Limited Partnership, and located in Cleveland, Ohio. The Lender included in the waiver request a roster of each building's address, parcel, total site count and bedroom unit count and configuration. The proposed FHA-insured mortgage amount is $9,200,000, that is $56,000 per unit in hard costs planned for the renovation of the existing units and the construction of a new community building. The Boardwalk Glenville project will also receive $21,266,657 in additional funding from a variety of sources such as local bank loans, HOME, deferred and contributed developer fees, seller notes and Low-Income Housing Tax Credit equity.

Granted By: Lopa P. Kolluri, Principal Deputy Assistant Secretary Office of Housing—Federal Housing Administration, H.

Date Granted: December 10, 2021.

Reason Waived: The sponsors recently purchased the properties and intend to merge the two properties into one marketable project. To accomplish this goal, the sponsors are applying for a 4% LIHTC allocation to rehabilitate buildings and construct a new 2,000 square foot neighborhood community building located adjacent to the existing Management Office. In addition, Glenville has 50 units covered by a Section 8 HAP Contract. Boardwalk has 123 units covered by a Section 8 HAP Contract. In the proposed Firm Application, the owners will request a 20-year renewal of both HAP contracts. The proposed 221(d)(4) FHA-insured transaction and rehabilitation of the properties will ensure the subject property continues as affordable, marketable, and viable in the community. The waiver will meet HUD's goal of preserving and maintain affordable rental housing for low-income families.

Contact: Thomas A. Bernaciak, Acting Director, Office of Multifamily Production, HTD, Office of Housing, Department of Housing and Urban Development, 451 Seventh Street SW, Washington, DC 20410-8000, telephone (202) 402-3242.

• Regulation: 24 CFR 203.604 Servicing Responsibilities, Contact with the Mortgagor.

Project/Activity: Temporary, Partial Waiver of Servicing Mortgagee's Responsibility to Contact Mortgagor in Person.

Nature of Requirement: 24 CFR 203.604 Contact with the Mortgagor, under Mortgagee Actions under Subpart C—Servicing Responsibilities requires mortgagees to have a face-to-face interview with the mortgagor, or make a reasonable effort to arrange such a meeting, before three full monthly installments due on the mortgage are unpaid.

Granted By: Lopa P. Kolluri, Principal Deputy Assistant Secretary for Housing—Federal Housing Administration.

Date Granted: December 2, 2021.

Reason Waived: HUD's servicing requirement for FHA-insured forward mortgages requires that a mortgagee conduct a face-to-face interview with the borrower, which is not practical given the public health recommendations being disseminated by local, state, and federal government agencies to limit contact between individuals, in order to contain the spread of the COVID-19 virus and its variants. HUD recognizes that, beyond government recommendations, there is public concern about possible transmission of COVID-19 from in-person contact, and that mortgagees and borrowers may be hesitant to meet in-person. FHA-approved mortgagees have been able to successfully establish contact with borrowers through alternate methods, gather and convey required information, and determine the borrower's circumstances and appropriate repayment plans, as required by § 203.604, without a face-to-face interview. The waiver was granted to protect the public health while ensuring delinquent borrowers were provided the opportunity to learn about options available to bring their mortgages current.

Contact: Elissa Saunders, Acting Director, Office of Single Family Program Development, Office of Housing, Department of Housing and Urban Development, 451 Seventh Street SW, Room 9278, Washington, DC 20410, telephone (202) 402-2378, Elissa.O.Saunders@hud.gov.

• Regulation: 24 CFR 3282.14(b), Alternative construction of manufactured homes, 1/16/84.

Project/Activity: Regulatory Waiver for Industry-Wide Alternative Construction Letter for Swinging Exterior Passage Doors (21-IW1-AC).

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted By: Lopa P. Kolluri, Principal Deputy Assistant Secretary for Housing—Federal Housing Administration.

Date Granted: December 13, 2021.

Reason Waived: Many manufactured home manufacturers are currently facing shortages in the supply of swinging exterior passage doors that are listed or specifically certified for use in manufactured homes due to COVID-19 pandemic impacts. The major supply line of certified swinging exterior passage doors cannot meet the current and near term future demands of the manufactured housing industry, yet alternative door options are available that provide performance equivalent or superior to that required by the Standards yet cannot be utilized without an Alternative Construction approval. To resolve this matter for the whole industry in an expedient manner while protecting the health and safety of consumers and maintaining durability of the homes, this regulatory waiver was granted to allow the Office of Manufactured Housing Programs to provide an industry-wide Alternative Construction approval letter that could be used by any manufacturer experiencing supply chain issues for swinging exterior passage doors.

Contact: Teresa B. Payne, Administrator, Office of Manufactured Housing Programs, Office of Housing, Department of Housing and Urban Development, 451 Seventh Street SW, Room 9168, Washington, DC 20410-0800, (202) 402-5365, Teresa.L.Payne@hud.gov.

• Regulation: 24 CFR 3282.14(b), Alternative construction of manufactured homes, 1/16/84.

Project/Activity: Regulatory Waiver for Industry-Wide Alternative Construction Letter for Electrical Circuit Breakers for Water Heater Installations (20-IW2-AC).

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted By: Lopa P. Kolluri, Principal Deputy Assistant Secretary for Housing—Federal Housing Administration.

Date Granted: December 13, 2021.

Reason Waived: Since the early months of the pandemic, the manufactured housing industry has continued to encounter difficulties in obtaining certain electrical circuit breakers. Although pandemic and national emergency restrictions are easing nationwide and production has resumed, manufacturers continue to struggle to procure these circuit breakers due to supply chain issues and personnel shortages. In order to build a manufactured home in compliance with the Manufactured Home Construction and Safety Standards, (24 Code of Federal Regulations (CFR) 3280, et seq. (the Standards), manufacturers must use circuit breakers that have been certified to specific standards, incorporated by reference. Specifically, there are limited supplies of 25 ampere (amp), double-pole circuit breakers that are necessary for Rheem brand 4,500-watt, 240-volt water heater installations to conform to HUD's Standards.

Contact: Teresa B. Payne, Administrator, Office of Manufactured Housing Programs, Office of Housing, Department of Housing and Urban Development, 451 Seventh Street SW, Room 9168, Washington, DC 20410, telephone (202) 402-5365, Teresa.L.Payne@hud.gov.

• Regulation: 24 CFR 219.220(b)(1995).

Project/Activity: Seniority House, Springfield, Massachusetts.

Nature of Requirement: The regulation at 24 CFR 219.220(b)(1995), which governs the repayment of operating assistance provided under the Flexible Subsidy Program for Troubled Projects, states “Assistance that has been paid to a project owner under this subpart must be repaid at the earlier of expiration of the term of the mortgage, termination of mortgage insurance, prepayment of the mortgage, or a sale of the project.” The Project was awarded a Flexible Subsidy Operating Assistance Loan in the amount of $2,392,748.00 in September 1992 at 1 percent interest per annum.

Granted By: Lopa P. Kolluri, Principal Deputy Assistant Secretary for Housing—Federal Housing.

Date Granted: November 21, 2021.

Reason Waived: The owner requested and was granted waiver of the requirement to repay the Flexible Subsidy Operating Assistance Loan in full when it became due. Deferring the loan payment will preserve the affordable housing resource for an additional 20 years through the execution and recordation of a Rental Use Agreement. The request to defer the Flexible Subsidy payment is part of the owner's proposal to apply for Tenant Protection Vouchers (TPV) assistance under PIH 2019-01/Housing Notice 2019-02, Funding Availability for Set-Aside Tenant Protection Vouchers (Notice H 2019-02). Per Section III A(5) of Notice H 2019-02, the Owner has elected for a Project Based Voucher (PBV) contract in lieu of Enhanced Vouchers. The owner currently anticipates structuring a preservation transaction involving the syndication of 4% Low Income Housing Tax Credit (LIHTC) at the end of this year.

The owner plans to use approximately $161,698 698 ($460,698-$167,000 remain in account and use $132,000 for roof repairs) of the reserve for replacement funds when the Use Agreement is executed to pay down part of the outstanding balance including interest of $3,074,855.58 Flex Sub Loan balance, which is in compliance with Housing Notice 2011-05, Policies and Procedures for the deferred repayment of Operating Assistance Flexible Subsidy Loans (Notice H 2011-05).

The remaining balance of the Flex Sub Loan will be secured by a Surplus Cash Note. The owner will allocate up to a maximum of 75% percent of surplus cash on an annual basis to pay down the loan. If the preservation transaction is not pursued, the owner will still be subject to the 75 percent Surplus Cash Note requirements.

Contact: Brenda Sharon Young, Transaction Manager, Office of Recapitalization, Office of Housing, Department of Housing and Urban Development, 451 Seventh Street SW, Room 6128, Washington, DC 20410, telephone (202) 402-6275 or Brenda.S.Young@hud.gov.

III. Regulatory Waivers Granted by the Office of Public and Indian Housing

For further information about the following regulatory waivers, please see the name of the contact person that immediately follows the description of the waiver granted.

• Regulation: Section 19(A)(1).

Project/Activity: Aurora Housing Authority, Nebraska.

Nature of Requirement: Section 19(A)(1) prohibits a PHA from entering into a contract, subcontract, or arrangement in connection with the administration of its public housing program where any present or former member or officer of the governing body of the PHA has an interest, direct or indirect, during his or her tenure or for one year thereafter.

Date Granted: October 1, 2021.

Contact: Todd Thomas, Director, Office of Public Housing and Voucher Programs, Office of Public and Indian Housing, Department of Housing and Urban Development, 451 Seventh Street SW, Room 4228, Washington, DC 20410, telephone (202) 402-5687.

• Regulation: 24 CFR 1000.14.

Project/Activity: Tlingit Haida Regional Housing Authority's (THRHA) Voluntary purchase of parcel with Indian Housing Block Grant (IHBG) funds.

Nature of Requirement: The regulation at 24 CFR 1000.14 requires an appraisal to be completed by a qualified appraiser before property is purchased with IHBG funds.

Granted By: Dominique Blom, General Deputy Assistant for Public and Indian Housing.

Date Granted: October 21, 2021.

Reason Waived: The parcel identified for purchase by THRHA required an appraiser with a general appraisal license to complete an appraisal. THRHA contacted all the appraisers in the Juneau-Douglas area, but none had this certification. The only qualified appraiser in Southeast Alaska was closed due to COVID-19, and the only viable alternative would have been to try to get an appraiser with the required certification from outside the area to travel to Juneau for the appraisal, which would have incurred additional costs and scheduling issues. Because of THRHA's extensive experience in the local market and due diligence in performing a cost estimate for the voluntary purchase of this parcel, THRHA's request to waive the appraisal requirement at 24 CFR 1000.14 was found to be reasonable and justified.

Contact: Greg Stuckey, Administrator, Alaska Office of Native American Programs, 3000 C Street, Suite 401, Anchorage, AK 99503, telephone (907) 677-9860 or AKONAP Administrator, at Greg.M.Stuckey@hud.gov.

[FR Doc. 2022-13128 Filed 6-16-22; 8:45 am]

BILLING CODE P